DEPARTMENT OF ENERGY

Federal Energy Regulatory Commission

[Docket No. EC03-96-000, et al.]

Fresno Power Investors, L.P., et al.; Electric Rate and Corporate Filings

June 13, 2003.

The following filings have been made with the Commission. The filings are listed in ascending order within each docket classification.

1. Fresno Power Investors, L.P., Harold E. Dittmer, and Hanover Power (Gates), LLC

[Docket No. EC03-96-000]

Take notice that on June 11, 2003, Fresno Power Investors, L.P. (FPILP), Harold E. Dittmer, and Hanover Power (Gates), LLC (HPG) (collectively, the Applicants), filed with the Federal Energy Regulatory Commission (Commission) an application pursuant to section 203 of the Federal Power Act seeking authorization for the transfer of certain jurisdictional facilities whereby Applicants request approval of the transfer of 92.5% of the upstream membership interests in Wellhead Power Gates, LLC from HPG to Mr. Dittmer and FPILP.

Comment Date: July 1, 2003.

2. California Independent System Operator Corporation

[Docket Nos. EL00-111-006 and EL01-84-002]

Take notice that on June 10, 2003, California Independent System Operator Corporation (ISO), tendered for filing a report on “Neutrality Adjustment” pursuant to Commission Order of March 12, 2003. Comment Date: July 10, 2003.

3. Public Utilities Commission of the State of California v. Sellers of Long Term Contracts to the California Department of Water Resources California Electricity Oversight Board v. Sellers of Energy and Capacity Under Long-Term Contracts with the California Consolidated Department of Water Resources, Allegheny Trading Finance Company

[Docket Nos. EL02-60-000, EL02-62-000, and ER01-1847-001]

Take notice that on June 11, 2003, the California Electricity Oversight Board (CEOB), the California Public Utilities Commission (CPUC), and Allegheny Energy Supply Company, LLC (AESC) and Allegheny Trading Finance Company (ATF) (jointly or individually Allegheny), submitted for Commission approval a Settlement Agreement by and among the Governor of the State of California, acting on behalf of the agencies, departments, subdivisions, boards, and commissions of the executive branch of the State of California (including the California Department of Water Resources (CDWR); the CEOB, the CPUC; and the People of the State of California, by and through the Attorney General). Allegheny states that the Settlement Agreement resolves, among other things, complaints against Allegheny filed with the Commission by the CPUC and the CEOB in Docket Nos. EL02-60-000 and EL02-62-000.

Initial comments on the Settlement Agreement are to be filed with the Federal Energy Regulatory Commission, 888 First Street, NE., Washington, DC 20426, on or before the comment date stated at the end of this notice. Reply comments to the initial comments on the Settlement Agreement shall be filed on or before July 1, 2003.

As required by the Settlement Agreement, in Docket No. ER01-1847-001, ATF also tendered for filing an amendment to its Service Agreement No. 121, under which it provides firm delivery of power to the CDWR. The revised rates and volumes to be provided by ATF to CDWR are set forth in the amended and restated contract. ATF requests an effective date of June 10, 2003, for the Amended and Restated Service Agreement No. 121. Comments on the amended and restated contract shall be filed on or before the comment date.

Allegheny states that copies of the filing were served upon CDWR, the CPUC, the CEOB, the California Attorney General's Office, the West Virginia Public Service Commission, the Public Utilities Commission of Ohio, the Pennsylvania Public Utility Commission, the Virginia State Corporation Commission, and the Maryland Public Service Commission.

Comment Date: June 24, 2003.

4. Entergy Services, Inc.

[Docket No. EL03-132-000]

Take notice that on June 10, 2003, Entergy Services, Inc. (Entergy), on behalf of Entergy Arkansas, Inc., Entergy Gulf States, Inc., Entergy Louisiana, Inc., Entergy Mississippi, Inc., and Entergy New Orleans, Inc., filed a Petition for Declaratory Order. Entergy seeks Commission guidance with respect to a weekly procurement process proposed to facilitate the continued integration of merchant generation and other wholesale suppliers into the procurement processes Entergy uses to serve Entergy's native load customers, and to establish an additional mechanism for granting short-term firm transmission service.

Comment Date: July 10, 2003.

5. Brownsville Power I, L.L.C., Caledonia Power I, L.L.C., CinCap IV, L.L.C., CinCap V, L.L.C., CinCap VIII, L.L.C., Cinergy Capital & Trading, Inc., Cincinnati Gas & Electric Co., Cinergy Power Investments, Inc., PSI Energy, Inc.]

[Docket Nos. ER00-826-001, ER00-828-001, ER98-421-011, ER98-4055-008, ER00-1834-002, ER93-730-018, ER96-2504-004, ER02-177-004, and ER96-2506-005]

Take notice that on June 5, 2003, the above referenced entities (collectively the Applicants), submitted for filing with the Federal Energy Regulatory Commission a triennial market power update pursuant to the Commission orders granting them market-based rate authorizations. Applicants state that they are all direct or indirect subsidiaries of Cinergy Corp.

Comment Date: June 26, 2003.

6. Exelon Corp.

[Docket No. ER03-949-000]

Take notice that on June 5, 2003, Exelon Corp., tendered for filing an Interim Report of the services the PJM Interconnection, L.L.C. will be performing for ComEd between June 1, 2003, and October 1, 2003, the transition period before ComEd is integrated into PJM in accordance with the Commission's Order of April 1, 2003, in Docket No. ER03-262-000.

Comment Date: June 26, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-15747 Filed 6-20-03; 8:45 am]

BILLING CODE 6717-01-P